DEPARTMENT OF HOMELAND SECURITY

Coast Guard

33 CFR Part 117

[USCG-2009-0219]

Drawbridge Operation Regulations; Chelsea River, Chelsea and East Boston, MA, Maintenance

AGENCY: Coast Guard, DHS.

ACTION: Notice of temporary deviation from regulations.

SUMMARY: The Commander, First Coast Guard District, has issued a temporary deviation from the regulation governing the operation of the Chelsea Street Bridge across the Chelsea River, mile 1.2, between Chelsea and East Boston, Massachusetts. This deviation allows the bridge to remain in the closed position for nine hours to facilitate bridge maintenance. Vessels that can pass under the draw without a bridge opening may do so at all times.

DATES: This deviation is effective from 8 p.m. on April 25, 2009, through 5 a.m. on April 26, 2009.

ADDRESSES: Documents indicated in this preamble as being available in the docket are part of docket USCG-2009-0219 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays; and the First Coast Guard District, Bridge Branch Office, 408 Atlantic Avenue, Boston, Massachusetts 02110, between 7 a.m. and 3 p.m., Monday through Friday, except Federal holidays.

FOR FURTHER INFORMATION CONTACT: John McDonald, Project Officer, First Coast Guard District, at (617) 223-8364.

SUPPLEMENTARY INFORMATION: The Massachusetts Highway Department, requested this temporary deviation to facilitate a power supply relocation project. The Chelsea Street Bridge, across the Chelsea River at mile 1.2, between Chelsea and East Boston, Massachusetts, has a vertical clearance in the closed position of 9 feet at mean high water and 19 feet at mean low water. The bridge opens on signal as required by 33 CFR 117.593.

This deviation allows the bridge to remain closed from 8 p.m. on April 25, 2009 through 5 a.m. on April 26, 2009. Vessels able to pass under the closed draw may do so at any time.

The waterway is primarily used by deep draft tankers, tugs and barge units. Waterway users were advised of the requested bridge closure period and offered no objection.

In accordance with 33 CFR 117.35(e), the bridge must return to its regular operating schedule immediately at the end of the designated time period. This deviation from the operating regulations is authorized under 33 CFR 117.35.

Dated: March 30, 2009.
Gary Kassof,
Bridge Program Manager, First Coast Guard District.

[FR Doc. E9-8305 Filed 4-10-09; 8:45 am]

BILLING CODE 4910-15-P